FEDERAL MARITIME COMMISSION

Ocean Transportation Intermediary License Revocations and Terminations

The Commission gives notice that the following Ocean Transportation Intermediary licenses have been revoked or terminated for the reason indicated pursuant to section 19 of the Shipping Act of 1984 (46 U.S.C. 40101) effective on the date shown.

License No.: 014485NF.

Name: England Global Logistics USA, Inc.

Address: 2291 West 205th Street, Bldg. C-103, Torrance, CA 90304.

Date Surrendered: June 25, 2014.

Reason: Voluntary surrender of license.

License No.: 023498NF.

Name: BDL Logistics L.L.C.

Address: 1401 Link Road, Unit 9-I, League City, TX 77573.

Date Surrendered: June 23, 2014.

Reason: Voluntary surrender of license.

License No.: 024898N.

Name: Proline Shipping Houston, Inc. d/b/a Proline Logistics.

Address: 9102 Westpark Drive, Houston, TX 77063.

Date Surrendered: July 11, 2014.

Reason: Voluntary surrender of license.

Sandra L. Kusumoto,
Director, Bureau of Certification and Licensing.

[FR Doc. 2014-17392 Filed 7-23-14; 8:45 am]

BILLING CODE 6730-01-P